DEPARTMENT OF AGRICULTURE

Animal and Plant Health Inspection Service

7 CFR Part 301

[Docket No. APHIS-2015-0040]

Golden Nematode; Removal of Regulated Areas in Orleans, Nassau, and Suffolk Counties, New York

AGENCY: Animal and Plant Health Inspection Service, USDA.

ACTION: Interim rule and request for comments.

SUMMARY: We are amending the golden nematode regulations by removing areas in Orleans, Nassau, and Suffolk Counties in the State of New York from the list of generally infested areas. Surveys and other data have shown that certain areas in these counties are free of golden nematode, and we have determined that regulation of these areas is no longer necessary. As a result of this action, areas in Orleans, Nassau, and Suffolk Counties in the State of New York that have been listed as generally infested will be removed from the list of areas regulated for golden nematode. This action is necessary to relieve restrictions on certain areas that are no longer necessary.

DATES: This interim rule is effective October 2, 2015. We will consider all comments that we receive on or before December 1, 2015.

ADDRESSES: You may submit comments by either of the following methods:

• Federal eRulemaking Portal: Go to http://www.regulations.gov/#!docketDetail;D=APHIS-2015-0040.

• Postal Mail/Commercial Delivery: Send your comment to Docket No. APHIS-2015-0040, Regulatory Analysis and Development, PPD, APHIS, Station 3A-03.8, 4700 River Road Unit 118, Riverdale, MD 20737-1238.

Supporting documents and any comments we receive on this docket may be viewed at http://www.regulations.gov/#!docketDetail;D=APHIS-2015-0040 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Jonathan M. Jones, National Policy Manager, Pest Management, Plant Protection and Quarantine, APHIS, 4700 River Road Unit 160, Riverdale, MD 20737; (301) 851-2128.

SUPPLEMENTARY INFORMATION:

Background

The golden nematode (Globodera rostochiensis) is a destructive pest of potatoes and other solanaceous plants. Potatoes cannot be economically grown on land that contains large numbers of the nematode. The golden nematode has been determined to occur in the United States only in parts of the State of New York.

In 7 CFR part 301, the golden nematode quarantine regulations (§§ 301.85 through 301.85-10, referred to below as the regulations) set out procedures for determining the areas regulated for golden nematode and impose restrictions on the interstate movement of regulated articles from regulated areas.

Paragraph (a) of § 301.85-2 states that the Deputy Administrator, Plant Protection and Quarantine, Animal and Plant Health Inspection Service (APHIS), shall list as regulated areas each quarantined State or each portion thereof in which golden nematode has been found or in which there is reason to believe that golden nematode is present, or which it is deemed necessary to regulate because of their proximity to infestation or their inseparability for quarantine enforcement purposes from infested localities.

Paragraph (b) of § 301.85-2 states that the Deputy Administrator or an authorized inspector may temporarily designate any other premises in a quarantined State as a regulated area and a suppressive or generally infested area, in accordance with the criteria specified in paragraph (a).

Paragraph (c) of § 301.85-2 states that, in accordance with the criteria listed in § 301.852(a), the Deputy Administrator shall terminate the designation of any area listed as a regulated area and suppressive or generally infested area when he or she determines that such designation is no longer required.

Surveys and other data have revealed that certain areas in Orleans, Nassau, and Suffolk Counties of New York are free of golden nematode. Accordingly, on September 17, 2014, APHIS issued a Federal Order ¹ to terminate the quarantine designation of specified areas within these three counties, thereby removing 600,524 acres from the golden nematode regulations. As a result, it is no longer necessary to regulate these areas or restrict the interstate movement of golden nematode regulated articles from these areas.

¹ Domestic Quarantine Notice for Revision of Golden Nematode Regulated Area (DA-2014-43), September 17, 2014: http://www.aphis.usda.gov/plant_health/plant_pest_info/nematode/downloads/DA-2014-43.pdf.

Approximately 509 acres will remain under regulation in Nassau County, 68 acres in Orleans County, and 221,504 acres in Suffolk County. Further analysis continues in each of these counties that may lead to additional acres being eligible to be removed from regulation in the future.

Correction

In an interim rule dated January 9, 2013 (78 FR, 1713-1715, Docket No. APHIS-2012-0079), we amended the golden nematode regulations by removing areas in Livingston and Steuben Counties in New York from the list of generally infested areas. In that rule, the coordinates we used to delineate the revised areas under quarantine were formatted in such a way that they did not accurately represent the areas we wished to lift from restrictions. Therefore, we are publishing the corrected coordinates of the areas remaining under quarantine in Livingston and Steuben Counties in this rule.

Immediate Action

Immediate action is warranted to relieve restrictions that are no longer necessary on the specified areas in Orleans, Nassau, and Suffolk Counties in New York that have been regulated for golden nematode. Under these circumstances, the Administrator has determined that prior notice and opportunity for public comment are contrary to the public interest and that there is good cause under 5 U.S.C. 553 for making this action effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This interim rule is subject to Executive Order 12866. However, for this action, the Office of Management and Budget has waived its review under Executive Order 12866.

In accordance with the Regulatory Flexibility Act, we have analyzed the potential economic effects of this action on small entities. The analysis is summarized below. The full analysis may be viewed on the Regulations.gov Web site (see ADDRESSES above for instructions for accessing Regulations.gov) or obtained from the person listed under FOR FURTHER INFORMATION CONTACT.

APHIS has removed 600,524 acres from the golden nematode regulations in specific areas in three New York counties: Orleans, Nassau, and Suffolk. Of the areas remaining under regulation, 221,504 acres are in Suffolk County, 509 acres are in Nassau County, and 68 acres are in Orleans County.

Golden nematode is a major pest of potato and other many other solanaceous plants. Sale of many soil-related products is negatively impacted in areas under quarantine for golden nematode. We impose sanitation requirements on movement of agricultural equipment and non-agricultural entities that use earth-moving equipment. The pest is spread by the transport of cysts in soil, in particular through the inadvertent movement of infested soil attached to agricultural products, farming equipment, and other regulated articles.

In 2014, the State of New York harvested 15,800 acres of potatoes valued at approximately $55 million, with Suffolk County being the number one county in potato production. While there are no detailed potato data published by county, 42 entities in Suffolk County have been affected by the deregulation and of these 18 entities are potato growers. One potato farm has been affected by the deregulation in Nassau County. Deregulation of quarantine areas in Orleans County is not known to have affected any entities.

The 43 affected entities will benefit from no longer needing to satisfy compliance requirements of the quarantine. They may also find improved export opportunities. While the potato farmers as well as the rest of the affected entities may qualify as small entities, they are few in number and their share of the nation's potato industry is small. Even though New York ranks 12th in volume among the States that produce potatoes, the value of its production is only 1.7 percent of the value of all U.S. production.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 2 CFR chapter IV.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Pub. L. 106-113, 113 Stat. 1501A-293; sections 301.75-15 and 301.75-16 issued under Sec. 203, Title II, Pub. L. 106-224, 114 Stat. 400 (7 U.S.C. 1421 note).

2. In § 301.85-2a, under the heading “New York,” in paragraph (1), the entries for Livingston County, Nassau County, Orleans County, Steuben County, and Suffolk County are revised to read as follows:

§ 301.85-2a Regulated areas; suppressive and generally infested areas.

* * * * *

New York

(1) Generally infested area:

* * * * *

Livingston County. (A) That portion of land in the area of South Lima North Muck in the town of Lima bounded as follows: Beginning at a point along the north side of South Lima Rd. marked by latitude/longitude coordinates 42.8553, −77.6738; then north along a farm road to coordinates 42.8588, −77.6712; then east along a farm road to coordinates 42.8596, −77.6678; then north along a farm road to coordinates 42.8624, −77.6683; then east along a farm road to coordinates 42.8624, −77.6648; then north along a farm road to coordinates number 42.8735, −77.6651; then west along a farm road to coordinates number 42.8735, −77.6684; then south along Little Conesus Creek to coordinates 42.8712, −77.6693; then west to include a portion of an access road and gravel clean off site to coordinates 42.8712, −77.6705; then south to coordinates 42.8711, −77.6704; then east to coordinates 42.8711, −77.6699; then north to coordinates 42.8712, −77.6698; then east to coordinates 42.8711, −77.6693; then south along Little Conesus Creek to coordinates 42.8688, −77.6702; then west along a farm road to coordinates 42.8688, −77.6713; then south along a farm road to coordinates 42.8659, −77.6733; then south along a farm road to coordinates 42.8642, −77.6740; then west along a farm road to coordinates 42.8643, −77.6761; then south along a farm road to coordinates 42.8567, −77.6802; then east to coordinates 42.8564, −77.6741; then south along Little Conesus Creek to coordinates 42.8553, −77.6745; then east to point of beginning at coordinates 42.8553, −77.6738;

(B) That portion of land in the area of South Lima South Muck in the town of Lima bounded as follows: Beginning at a point along the south side of South Lima Rd. marked by latitude/longitude coordinates 42.8552, −77.6774; then south to coordinates 42.8548, −77.6774; then east to coordinates 42.8548, −77.6767; then south to coordinates 42.8509, −77.6770; then south to coordinates 42.8447, −77.6772; then east to coordinates 42.8446, −77.6739; then north along a farm road to coordinates 42.8477, −77.6728; then east along a farm road to coordinates 42.8488, −77.6700; then north along a farm road to coordinates 42.8512, −77.6701; then west along a farm road to coordinates 42.8512, −77.6720; then north along a farm road to coordinates 42.8516, −77.6720; then west along a farm road to coordinates 42.8518, −77.6740; then north to coordinates 42.8541, −77.6740; then west to coordinates 42.8545, −77.6766; then north to coordinates 42.8552, −77.6765; then west to point of beginning at coordinates 42.8552, −77.6774;

(C) That portion of land in the area of Wiggle Muck in the town of Livonia bounded as follows: Beginning at a point along the west side of Plank Rd. (State highway 15A) marked by latitude/longitude coordinates 42.8489, −77.6136; then west to coordinates 42.8491, −77.6203; then south along a farm road to coordinates 42.8468, −77.6192; then south along a farm road to coordinates 42.8419, −77.6188; then east to coordinates 42.8422, −77.6161; then north along a farm road to coordinates 42.8487, −77.6168; then east to the west side of Plank Rd. marked by coordinates 42.8487, −77.6135; then north to point of beginning at coordinates 42.8489, −77.6136; and

(D) That portion of land in the town of Avon bounded as follows: Beginning at a point marked by latitude/longitude coordinates 42.9056, −77.6872; then east along a farm road to coordinates 42.9054, −77.6850; then east along a farm road to coordinates 42.9060, −77.6825; then north along a drainage ditch to coordinates 42.9069, −77.6823; then north along a drainage ditch to coordinates 42.9079, −77.6847; then north to coordinates 42.9103, −77.6844; then west along the south side of a farm road to coordinates 42.9103, −77.6857; then south along a farm road to point of beginning at coordinates 42.9056, −77.6872.

Nassau County. (A) That portion of land in the town of Oyster Bay and the village of Old Brookville bounded as follows: Beginning at a point marked by latitude-longitude coordinates 40.8312 −73.5917; then proceeding north-northwest 152′ along Hegemans Lane to coordinates 40.8317, −73.5917; continuing north-northwest 581′ along Hegemans Lane to coordinates 40.8332, −73.5920; then heading north 473′ along Hegemans Lane to coordinates 40.8345, −73.5921; continuing north 461′ along Hegemans Lane to coordinates 40.8358, −73.5921; continuing north 182′ along Hegemans Lane to coordinates 40.8363, −73.5921; continuing north 1227′ along Hegemans Lane to coordinates 40.8397, −73.5920; continuing north 718′ along Hegemans Lane to coordinates 40.8416, −73.5919; then heading west 188′ to Chicken Valley Road at coordinates 40.8416, −73.5926: then heading southwest 70′ along Chicken Valley Road to coordinates 40.8415, −73.5928; continuing southwest 297′ along Chicken Valley Road to coordinates 40.8409, −73.5936; continuing southwest 106′ along Chicken Valley Road to coordinates 40.8407, −73.5938; continuing southwest 155′ along Chicken Valley Road to coordinates 40.8404, −73.5914; continuing southwest 142′ along Chicken Valley Road to coordinates 40.8400, −73.5944; continuing southwest 125′ along Chicken Valley Road to coordinates 40.8397, −73.5946; continuing southwest 36′ along Chicken Valley Road to coordinates 40.8397, −73.5947: continuing southwest 38′ along Chicken Valley Road to coordinates 40.8396, −73.5948; continuing southwest 201′ along Chicken Valley Road to coordinates 40.8392, −73.5953; continuing southwest 98′ along Chicken Valley Road to coordinates 40.8390, −73.5955; continuing southwest 61′ along Chicken Valley Road to coordinates 40.8389, −73.5957; continuing southwest 187′ along Chicken Valley Road to coordinates 40.8384, −73.5960; continuing southwest 62′ along Chicken Valley Road to coordinates 40.8383, −73.5962; continuing southwest 142′ along Chicken Valley Road to coordinates 40.8380, −73.5965; continuing southwest 252′ along Chicken Valley Road to coordinates 40.8375, −73.5971; then heading southeast 254′ along a wood line to coordinates 40.8370, −73.5965; then heading south-southeast 269′ along a wood line to coordinates 40.8363, −73.5963; continuing south-southeast 182′ along a wood line to coordinates 40.8358, −73.5962; then heading south 303′ along a wood line to coordinates 40.8350, −73.5961; then heading south-southeast 175′ along a wood line to coordinates 40.8346, −73.5958; then heading south 329′ along a farm road to coordinates 40.8337, −73.5957; then heading southwest 76′ along a farm road to coordinates 40.8335, −73.5958; then heading west-southwest 104′ along a farm road to coordinates 40.8334, −73.5962; then heading south-southwest 278′ along a farm road to coordinates 40.8327, −73.5965; then heading southeast 1441′ along the south boundary of the Young's Farm to the starting point at coordinates 40.8312, −73.5917;

(B) That portion of land in the town of Oyster Bay and in the village of Old Brookville bounded as follows: Beginning at a point marked by latitude-longitude coordinates 40.8343, −73.5921; then heading south 399′ along Hegemans Lane to coordinates 40.8332, −73.5920; then heading 403′ northeast along a tree line to coordinates 40.8335, −73.5906; then heading 263′ north to coordinates 40.8342, −73.5906; then heading northwest 6′ along Linden Lane to coordinates 40.8342, −73.5906; continuing northwest 98′ along Linden Lane to coordinates 40.8343, −73.5909; continuing northwest 52′ along Linden Lane to coordinates 40.8344, −73.5911; then continuing 54′ northwest along Linden Lane to coordinates 40.8344, −73.5913; then heading southwest 43′ along Linden Lane to coordinates 40.8344, −73.5915; then continuing southwest 170′ to the starting point at coordinates 40.8343, −73.5921;

(C) That portion of land in the town of Oyster Bay and the village of Old Brookville bounded as follows: Beginning at a point marked by latitude-longitude coordinates 40.8365, −73.5874; then heading south 452′ to coordinates 40.8352, −73.5873; then proceeding northeast 583′ to coordinates 40.8356, −73.5853; then heading north-northwest 400′ to coordinates 40.8367, −73.5855; then heading 529′ southwest to the starting point at coordinates 40.8365, −73.5874;

(D) That portion of land in the town of Oyster Bay in the villages of Upper Brookville and Matinecock bounded as follows: Beginning at a point marked by latitude-longitude coordinates 40.8631, −73.5671; proceeding south 240′ along Chicken Valley Road to coordinates 40.8625, −73.5670; continuing south 293′ along Chicken Valley Road to coordinates 40.8617, −73.5670; continuing south 131′ along Chicken Valley Road to coordinates 40.8613, −73.5670; proceeding south-southwest 116′ along Chicken Valley Road to coordinates 40.8610, −73.5671; continuing south-southwest 113′ along Chicken Valley Road to coordinates 40.8670, −73.5672; proceeding southwest 116′ along Chicken Valley Road to coordinates 40.8604, −3.5674; continuing southwest 337′ along Chicken Valley Road to coordinates 40.8596, −73.5679; continuing southwest 82′ along Chicken Valley Road to coordinates 40.8594, −73.5680; then heading east-northeast 819′ through a wooded area to coordinates 40.8596, −73.5651; then heading southeast 1462′ through a wooded area to coordinates 40.8558, −73.5634; continuing southeast 1065′ through a wooded area to coordinates 40.8531, −73.5618; then heading northeast 1167′ along the border with a golf course to coordinates 40.8547, −73.5581; continuing northeast 317′ along the border with the golf course to coordinates 40.8552, −73.5573; then heading east-northeast 1278′ along the border with a golf course to coordinates 40.8557, −73.5527; then heading south 275′ along the border with a golf course to coordinates 40.8549, −73.5526; then heading northeast 873′ along the golf course boundary to coordinates 40.8564, −73.5501; then heading northwest 1463′ through a wooded area to coordinates 40.8602, −73.5519; then heading 615′ southwest along the border of a residential area to coordinates 40.8599, −73.5541; then heading 280′ northwest through a wooded area to coordinates 40.8604, −73.5548; then heading north-northwest 188′ along a residential driveway to coordinates 40.8609, −73.5549; then heading west 337′ along a residential driveway to coordinates 40.8609, −73.5561; then heading northwest 309′ along a residential driveway to coordinates 40.8617, −73.5565; then heading north-northwest 103′ along a residential driveway to coordinates 40.8620, −73.5566; continuing north-northwest 38′ along a residential driveway to coordinates 40.8621, −73.5566; then heading north 108′ along a residential driveway to coordinates 40.8624, −73.5566; then heading northwest 135′ along a residential driveway to coordinates 40.8627, −73.5567; continuing northwest 95′ along a residential driveway to coordinates 40.8630, −73.5568; then heading east 106′ to a residential driveway at coordinates 40.8630, −73.5565; then heading northeast 172′ along a residential driveway to coordinates 40.8631, −73.5558; continuing northeast 160′ along a residential driveway to coordinates 40.8633, −73.5553; continuing northeast 20′ along a residential driveway to coordinates 40.8633, −73.5552; continuing northeast 141′ along a residential driveway to coordinates 40.8636, −73.5549; continuing northeast 106′ along a residential driveway to coordinates 40.8639, −73.5547; then heading north-northeast 20′ along a residential driveway to coordinates 40.8639, −73.5547; continuing north-northeast 107′ along a residential driveway to coordinates 40.8642, −73.5546; continuing north-northeast 111′ along a residential driveway to coordinates 40.8645, −73.5545; continuing north-northeast 207′ along a residential driveway to coordinates 40.8650, −73.5545; then heading north 53′ along a residential driveway to coordinates 40.8652, −73.5545; then heading northeast 153′ along a paved driveway to coordinates 40.8655, −73.5540; continuing northeast 173′ along a paved driveway to coordinates 40.8657, −73.5535; continuing northeast 71′ along a paved driveway to coordinates 40.8658, −73.5533; then heading north-northeast 47′ along a paved driveway to coordinates 40.8659, −73.5532; continuing north-northeast 70′ along a paved driveway to coordinates 40.8661, −73.5531; continuing north-northeast 79′ along a paved driveway to coordinates 40.8663, −73.5530; then heading north-northeast 109′ along a paved driveway to coordinates 40.8666, −73.5530; then heading north 129′ along a paved driveway to coordinates 40.8669, −73.5529; continuing north 122′ along a paved driveway to coordinates 40.8673, −73.5529; then heading north-northeast 182′ along a paved driveway to coordinates 40.8678, −73.5527; then heading north 23′ along a paved driveway to coordinates 40.8678, −73.5527; then heading north-northwest 36′ along a paved driveway to Planting Fields Road at coordinates 40.8679, −73.5528; then heading southwest 6′ along Planting Fields Road to coordinates 40.8679, −73.5528; continuing southwest 48′ along Planting Fields Road to coordinates 40.8679, −73.5530; then heading west 339′ along Planting Fields Road to coordinates 40.8679, −73.5542; then heading west-southwest 93′ along Planting Fields Road to coordinates 40.8679, −73.5545; then heading southwest 69′ along Planting Fields Road to coordinates 40.8678, −73.5548; continuing southwest 79′ along Planting Fields Road to coordinates 40.8677, −73.5550; continuing southwest 133′ along Planting Fields Road to coordinates 40.8675, −73.5554; continuing southwest 60′ along Planting Fields Road to coordinates 40.8674, −73.5556; continuing southwest 71′ along Planting Fields Road to coordinates 40.8674, −73.5558; heading west-southwest 225′ along Planting Fields Road to coordinates 40.8672, −73.5566; continuing west-southwest 89′ along Planting Fields Road to coordinates 40.8672, −73.5570; continuing west-southwest 132′ along Planting Fields Road to coordinates 40.8671, −73.5574, then heading southwest 91′ along Planting Fields Road to coordinates 40.8670, −73.5577; continuing southwest 59′ along Planting Fields Road to coordinates 40.8669, −73.5579; continuing southwest 240′ along Planting Fields Road to coordinates 40.8665, −73.5586; continuing southwest 219′ along Planting Fields Road to coordinates 40.8661, −73.5592; continuing southwest 89′ along Planting Fields Road to coordinates 40.8660, −73.5594; continuing southwest 132′ along Planting Fields Road to coordinates 40.8658, −73.5598; continuing southwest 93′ along Planting Fields Road to coordinates 40.8657, −73.5602; continuing southwest 97′ along Planting Fields Road to coordinates 40.8655, −73.5605; continuing southwest 90′ along Planting Fields Road to coordinates 40.8654, −73.5608; continuing southwest 131′ along Planting Fields Road to coordinates 40.8653, −73.5612; continuing southwest 80′ along Planting Fields Road to coordinates 40.8652, −73.5614; continuing southwest 257′ along Planting Fields Road to coordinates 40.8649, −73.5623; continuing southwest 133′ along Planting Fields Road to coordinates 40.8647, −73.5627; continuing southwest 59′ along Planting Fields Road to coordinates 40.8646, −73.5629; continuing southwest 85′ along Planting Fields Road to coordinates 40.8645, −73.5632; then heading west-southwest 177′ along Planting Fields Road to coordinates 40.8644, −73.5638; continuing west-southwest 213′ along Planting Fields Road to coordinates 40.8643, −73.5646; then heading southwest 89′ along Planting Fields Road to coordinates 40.8642, −73.5649; continuing southwest 58′ along Planting Fields Road to coordinates 40.8642, −73.5651; continuing southwest 133′ along Planting Fields Road to coordinates 40.8639, −73.5654; continuing southwest 325′ along Planting Fields Road to coordinates 40.8635, −73.5664; continuing southwest 116′ along Planting Fields Road to coordinates 40.8633, −73.5668; continuing southwest 100′ along Planting Fields Road to the intersection with Chicken Valley Road at starting point coordinates 40.8631, −73.5671; and

(E) That portion of land in the town of Oyster Bay and in the hamlet of Old Bethpage bounded as follows: Beginning at a point marked by latitude-longitude coordinates 40.7703, −73.4460; then proceeding southwest 1997′ through a wood line to Winding Road at coordinates 40.7655, −73.4493; then heading southeast 102′ along Winding Road to coordinates 40.7653, −73.4490; continuing southeast 57′ along Winding Road to coordinates 40.7652, −73.4488; then heading south-southeast 52′ along Winding Road to coordinates 40.7650, −73.4488; continuing south-southeast 99′ along Winding Road to coordinates 40.7648, −73.4487; then heading south 654′ along Winding Road to coordinates 40.7630, −73.4485; then heading southeast 24′ along a ramp to coordinates 40.7629, −73.4485; then heading northeast 2134′ through a wood line to coordinates 40.7644, −73.4411; then heading north-northwest 1197′ along the Nassau County-Suffolk County Border to coordinates 40.7677, −73.4417; then heading southwest 250′ through a wood line to coordinates 40.7676, −73.4426; then heading 132′ north-northwest along Restoration Road to coordinates 40.7679, −73.4426; then heading northeast 311′ along Restoration Road to coordinates 40.7687, −73.4422; then heading northwest 96′ along Restoration Road to coordinates 40.7689, −73.44245; continuing northwest 262′ along Restoration Road to coordinates 40.7695, −73.4430; continuing northwest 173′ along Restoration Road to coordinates 40.7699,−73.4433; continuing northwest 33′ along Restoration Road to coordinates 40.7699, −73.4434; then heading southwest 275′ along Restoration Road to coordinates 40.76942, −73.4440; continuing southwest 194′ along Restoration Road to coordinates 40.76900, −73.4445; then heading north-northwest 334′ along a gravel path to coordinates 40.7698, −73.4448; then heading northwest 364′ along a gravel path to the starting point at coordinates 40.7703, −73.4460.

Orleans County. (A) That portion of land in the town of Barre bounded as follows: Beginning at a point on the north side of Spoil Bank Road marked by latitude-longitude coordinates 43.1327, −78.1234; then east along a farm road running parallel to Spoil Bank Road to coordinates 43.1327, −78.1191; then north along a willow hedge row to coordinates 43.1354, −78.1191; then west along a drainage ditch to coordinates 43.1353, −78.1227; then northwest along a drainage ditch to coordinates 43.1354, −78.1230; then northwest to coordinates 43.1355, −78.1232; then west to coordinates 43.1355, −78.1233; then southwest to coordinates 43.1354, −78.1234; then south along a drainage ditch to the point of beginning at coordinates 43.1327, −78.1234;

(B) That portion of land in the town of Barre bounded as follows: Beginning at a point marked by latitude-longitude coordinates 43.1548, −078.1199; then east along a farm road to coordinates 43.1548, −078.1166; then south to coordinates 43.1524, −078.1167; then west to coordinates 43.1524, −078.1199; then north along a willow hedgerow to the point beginning at coordinates 43.1548, −078.1199; and

(C) That portion of land in the town of Barre bounded as follows: Beginning at a point marked by latitude-longitude coordinates 43.1551, −78.1240; then west to coordinates 43.1551, −78.1244; then southwest to coordinates 43.1550, −78.1245; then southwest to coordinates 43.1550, −78.1245; then south to coordinates 43.1549, −78.1245; then west along a drainage ditch to coordinates 43.1548, −78.1264, then north to coordinates 43.1596, −78.1266; then east along a farm road to coordinates 43.1597, −78.1243; then south along a willow hedge to the point of beginning at coordinates 43.1551, −78.1240.

* * * * *

Steuben County. (A) The towns of Prattsburgh and Wheeler.

(B) The area known as “Arkport Muck North” located in the town of Dansville bounded as follows: Beginning at a point along the west bank of the Marsh Ditch that intersects a farm road marked by latitude/longitude coordinates 42.4230, −77.7121; then north along the Marsh Ditch to coordinates 42.4314, −77.7158; then west along a farm road to coordinates 42.4307, −77.7204; then south along the edge of a forest to coordinates 42.4284, −77.7194; then west along a farm road to coordinates 42.4282, −77.7201; then south along a farm road to coordinates 42.4255, −77.7189; then east along a tree line to coordinates 42.4254, −77.7180; then south along a tree line to coordinates 42.4230, −77.7157; then east to point of beginning at coordinates 42.4230, −77.7121;

(C) The area known as “Arkport Muck South” located in the town of Dansville bounded as follows: Beginning at a point along the west side of New York Route 36 marked by latitude/longitude coordinates 42.4034, −77.6986; then north along the west side of New York Route 36 to coordinates 42.4145, −77.6999; then west along a farm road to coordinates 42.4145, −77.7029; then north along a farm road to coordinates 42.4160, −77.7036; then west along a farm road to coordinates 42.4162, −77.7083; then north along the west bank of the Marsh Ditch to coordinates 42.4186, −77.7097; then west along a farm road to coordinates 42.4181, −77.7121; then north along a farm road to coordinates 42.4214, −77.7140; then west along a farm road to coordinates 42.4211, −77.7198; then south along the east side of the Conrail right-of-way (Erie Lackawanna Railroad) to coordinates 42.4050, −77.7107; then east along a farm road to coordinates 42.4049, −77.7038; then south along a farm road to coordinates 42.4034, −77.7030; then east to point of beginning at coordinates 42.4034, −77.6986;

(D) That portion of land in the town of Cohocton (formerly known as the “Werthwhile Farm”) on the north side of County Road 5 (known as Brown Hill Road), and 0.2 mile west of the junction of County Road 5 with County Road 58 (known as Wager Road); and

(E) That portion of land in the town of Fremont that is bounded as follows: Beginning at a point on Babcock Road that intersects a farm road marked by latitude/longitude coordinates 42.4368, −77.5751; then west along the farm road to coordinates 42.4367, −77.5780; then south to coordinates 42.4360, −77.5780; then west to coordinates 42.4359, −77.5807; then south to coordinates 42.4335, −77.5806; then east to coordinates 42.4333, −77.5778; then south to coordinates 42.4318, −77.5777; then east to coordinates 42.4323, −77.5771; then north to coordinates 42.4330, −77.5763; then east to coordinates 42.4330, −77.5761; then north to coordinates 42.4349, −77.5756; then east to coordinates 42.4349, −77.5749; then north to the point of beginning at coordinates 42.4368, −77.5751.

Suffolk County. (A) Towns of Riverhead, East Hampton, Southampton, Southold, and Shelter Island in their entirety in Suffolk County;

(B) That portion of land in the town of Huntington and the hamlet of Melville bounded as follows: Beginning at a point marked by latitude-longitude coordinates 40.7767, −72.4202; then proceeding southwest 788′ along Broad Hollow Rd. to coordinates 40.7746, −72.4210; then heading east 2354′ along Huntington Quadrangle Rd. to coordinates 40.7748, −72.4125; then heading south 2095′ parallel to Maxess Rd. to coordinates 40.7691, −72.4121; then heading southeast 250′ along Bayliss Rd. to coordinates 40.7689, −72.4113; then heading 2734′ north to coordinates 40.7764, −72.4114; then heading east 1820′ to coordinates 40.7767, −72.4049; then heading north 233′ along Pinelawn Rd. to coordinates 40.7773, −72.4048; then heading west 4267′ to the starting point at coordinates 40.7767, −72.4202;

(C) That portion of land in the town of Huntington and the hamlet of Melville bounded as follows: Beginning at a point marked by latitude-longitude coordinates 40.7954, −72.4080; then proceeding south 1645′ along the west boundary of White Post Farms to coordinates 40.7909, −72.4073; then proceeding east 1110′ along the south boundary of White Post Farms and a housing development to coordinates 40.7910, −72.4033; then heading north 2033′ parallel to Bedell Place to coordinates 40.7965, −72.4041; then heading southwest 1170′ along Old Country Road to the starting point at coordinates 40.7954, −72.4080;

(D) That portion of land in the town of Huntington and the hamlet of Dix Hills bounded as follows: Beginning at a point marked by latitude-longitude coordinates 40.7904, −72.3410; then proceeding southeast 306′ along Deer Park Road to coordinates 40.7896, −72.3407; continuing southeast 272′ along Deer Park Road to coordinates 40.7888, −72.3404; continuing southeast 530′ along Deer Park Road to coordinates 40.7874, −72.3399; then proceeding northeast 1002′ along the south boundary of the DeLalio Sod Company to coordinates 40.7883, −72.3364; then proceeding northwest 541′ along the east boundary of the DeLalio Sod Company and the Garden Depot to coordinates 40.7897, −72.3371; continuing northwest 554′ along the east boundary of field 15-C-21 to coordinates 40.7911, −72.3377; then proceeding southwest 952′ along the north boundary of field 15-C-21 to the starting point at coordinates 40.7904, −72.3410; and

(E) That portion of land in the town of Brookhaven and the hamlet of Manorville bounded as follows: Beginning at a point marked by latitude-longitude coordinates 40.8542, −72.8240; then proceeding northeast 442′ along South Street to coordinates 40.8545, −72.8225; continuing northeast 1086′ along South Street to coordinates 40.8550, −72.8186; then proceeding east 413′ to coordinates 40.8551, −72.8171 at the intersection of South Street and Wading River Rd.; then proceeding northwest 714′ along Wading River Road to coordinates 40.8568, −72.8183; then continuing northwest 695′ along Wading River Road to coordinates 40.8586, −72.8194; continuing northwest 497′ along Wading River Road to coordinates 40.8598, −72.8202; continuing northwest 221′ along Wading River Road to coordinates 40.8603, −72.8205; continuing northwest 203′ along Wading River Road to coordinates 40.8608, −72.8209; continuing 194′ along Wading River Road to coordinates 40.8613, −72.8212; continuing 212′ along Wading River Road to coordinates 40.8618, −72.8215; proceeding northwest 30′ to coordinates 40.8618, −72.8216; then heading 45′ west to coordinates 40.8618, −72.8218; then heading 183′ southwest along the south ramp of the Long Island Expressway to coordinates 40.8617, −72.8224; then heading west 179′ parallel with the south ramp of the Long Island Expressway to coordinates 40.8617, −72.8231; then continuing west 182′ to coordinates 40.8617, −72.8237; continuing west 299′ parallel with the south ramp of the Long Island Expressway to coordinates 40.8618, −72.8248; then proceeding 201′ southeast to coordinates 40.8617, −72.8255; continuing southwest 88′ to coordinates 40.8615, −72.8257; then south 83′ along a wood line to coordinates 40.8613, −72.8257; continuing south 116′ along a wood line to coordinates 40.8610, −72.8257; continuing southeast 96′ along a wood line to coordinates 40.8607, −72.8256; then heading 92′ southwest along the wood line to coordinates 40.8605, −72.8257; then heading 47′ south along the wood line to coordinates 40.8603, −72.8257; then heading southeast 194′ along the wood line to coordinates 40.8599, −72.8261; continuing 87′ southwest along the wood line to coordinates 40.8597, −72.8262; continuing 200′ southwest along the wood line to coordinates 40.8592, −72.8265; then heading southeast 112′ along the wood line to coordinates 40.8589, −72.8264; then heading east 232′ along the wood line to coordinates 40.8589, −72.8256; then heading south 828′ along the wood line to coordinates 40.8566, −72.8253; then heading east 246′ along the northern boundary of a horse farm to coordinates 40.8567, −72.8244; then heading south 940′ along the boundary of a horse farm to the starting point at coordinates 40.8542, −72.8240.

* * * * *

Done in Washington, DC, this 28th day of September 2015.
Kevin Shea,
Administrator, Animal and Plant Health Inspection Service.

[FR Doc. 2015-25099 Filed 10-1-15; 8:45 am]

BILLING CODE 3410-34-P